DEPARTMENT OF TRANSPORTATION

Federal Aviation Administration

Notice of Intent to Rule on Request To Release Airport Property at Ellington Field Airport, Houston, Texas

AGENCY: Federal Aviation Administration (FAA), DOT.

ACTION: Notice of request to release airport property.

SUMMARY: The FAA proposes to rule and invite public comment on the release of land at Ellington Field Airport under the provisions of Section 125 of the Wendell H. Ford Aviation Investment Reform Act for the 21st Century (AIR 21).

DATES: Comments must be received on or before April 4, 2011.

ADDRESSES: Comments on this application may be mailed or delivered to the FAA at the following address:

Mr. Mike Nicely, Manager, Federal Aviation Administration, Southwest Region, Airports Division, Texas Airports Development Office, ASW-650, Fort Worth, Texas 76137.

In addition, one copy of any comments submitted to the FAA must be mailed or delivered to Mr. Mario C. Diaz, Aviation Director, at the following address:

Mr. Mario C. Diaz, Aviation Director, Houston Airport System, 16930 John F. Kennedy Blvd., Houston, Texas 77032.

FOR FURTHER INFORMATION CONTACT: Mr. Ben Guttery, Senior Program Manager, Federal Aviation Administration, Texas Airports Development Office, ASW-652, 2601 Meacham Boulevard, Fort Worth, Texas 76137-0650, Telephone: (817) 222-5614, E-mail: ben.guttery@faa.gov. Fax: (817) 222-5989.

The request to release property may be reviewed in person at this same location.

SUPPLEMENTARY INFORMATION: The FAA invites public comment on the request to release property at the Ellington Field Airport under the provisions of the AIR 21.

On February 7, 2011, the FAA determined that the request to release property at Ellington Field Airport, submitted by the Airport, met the procedural requirements of the Federal Aviation Regulations, Part 155. The FAA may approve the request, in whole or in part, no later than April 4, 2011.

The following is a brief overview of the request:

Ellington Field Airport requests the release of 16.019 acres of non-aeronautical airport property. The land was acquired by the City of Houston via an Indenture dated July 1, 1984, and Deed without Warranty and Bill of Sale dated August 21, 1984. The funds generated by the release will be used to improve the Ellington Field Airport.

Any person may inspect the request in person at the FAA office listed above under FOR FURTHER INFORMATION CONTACT.

In addition, any person may, upon request, inspect the application, notice and other documents relevant to the application in person at the FAA Office listed above or the Houston Airport System Offices at Ellington Field Airport.

Issued in Fort Worth, Texas on February 25, 2011.
Kelvin Solco,
Manager, Airports Division.

[FR Doc. 2011-5093 Filed 3-4-11; 8:45 am]

BILLING CODE P